NUCLEAR REGULATORY COMMISSION

[Docket Nos. 52-034 and 52-035; NRC-2008-0594]

Luminant Generation Company, LLC

AGENCY: Nuclear Regulatory Commission.

ACTION: Notice of receipt; availability.

SUMMARY: The U.S. Nuclear Regulatory Commission (NRC) is giving notice once each week for four consecutive weeks of a combined license (COL) application from Luminant Generation Company, LLC. (Luminant).

ADDRESSES: Please refer to Docket ID NRC-2008-0594 when contacting the NRC about the availability of information regarding this document. You may access publicly-available information related to this document using any of the following methods:

• Federal Rulemaking Web site: Go to http://www.regulations.gov and search for Docket ID NRC-2008-0594. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Stephen Monarque, Office of New Reactors, U.S. Nuclear Regulatory Commission, Washington, DC 20555-0001, telephone: 301-415-1544; email: Stephen.Monarque@nrc.gov.

SUPPLEMENTARY INFORMATION: The following party has filed applications for COLs with the NRC, pursuant to Section 103 of the Atomic Energy Act of 1954, as amended, and Title 10 of the Code of Federal Regulations (10 CFR) Part 52, “Licenses, Certifications, and Approvals for Nuclear Power Plants:”

1. On September 19, 2008, Luminant submitted an application for COLs for two United States-Advanced Pressurized Water Reactors designated as Comanche Peak Nuclear Power Plant, Units 3 and 4, in Somervell County, Texas.

This COL application is currently under review by the NRC staff.

An applicant may seek a COL in accordance with Subpart C of 10 CFR Part 52. The information submitted by the applicant includes certain administrative information, such as financial qualifications submitted pursuant to 10 CFR 52.77, as well as technical information submitted pursuant to 10 CFR 52.79. These notices are being provided in accordance with the requirements in 10 CFR 50.43(a)(3).

Dated at Rockville, Maryland, this 30th day of October 2013.
For the Nuclear Regulatory Commission.
Jennifer Dixon-Herrity,
Chief Licensing Branch 2, Division of New Reactor Licensing, Office of New Reactors.

[FR Doc. 2013-26535 Filed 11-5-13; 8:45 am]

BILLING CODE 7590-01-P